DEPARTMENT OF HEALTH AND HUMAN SERVICES

Food and Drug Administration

[Docket No. FDA-2010-N-0001]

The 13th Annual Food and Drug Administration-Orange County Regulatory Affairs Educational Conference in Irvine, California: “Regulatory Affairs: The Business of Regulatory Affairs”

AGENCY: Food and Drug Administration, HHS.

ACTION: Notice of conference.

The Food and Drug Administration (FDA) is announcing the following conference: 13th Annual Educational Conference co-sponsored with the Orange County Regulatory Affairs Discussion Group (OCRA). The conference is intended to provide the drug, device, biologics and dietary supplement industries with an opportunity to interact with FDA reviewers and compliance officers from the centers and District Offices, as well as other industry experts. The main focus of this interactive conference will be product approval, compliance, and risk management in the four medical product areas. Industry speakers, interactive Q & A, and workshop sessions will also be included to assure open exchange and dialogue on the relevant regulatory issues.

Date and Time: The conference will be held on June 16 and 17, 2010, from 7:30 a.m. to 5 p.m.

Location: The conference will be held at the Irvine Marriott, 18000 Von Karman Ave., Irvine, CA 92612.

Contact: Linda Hartley, Food and Drug Administration, 19701 Fairchild, Irvine, CA 92612, Voice: 949-608-4413, FAX: 949-608-4417; or Orange County Regulatory Affairs Discussion Group (OCRA), Attention to Detail, 5319 University Dr., suite 641, Irvine, CA 92612, Voice: 949-387-9046, FAX: 949-387-9047, Web site: www.ocra-dg.org.

Registration and Meeting Information: See OCRA's Web site at www.ocra-dg.org. Contact Attention to Detail at 949-387-9046.

Registrations fees are as follows: $725.00 for members, $775.00 for non-members, and $475.00 for FDA/Government/Students. OCRA student rate applies to those individuals enrolled in a regulatory or quality related academic program at an accredited institution. Proof of enrollment is required.

The registration fee will cover actual expenses including refreshments, lunch, materials, parking, and speaker expenses.

If you need special accommodations due to a disability, please contact Linda Hartley (see Contact) at least 10 days in advance.

Dated: May 20, 2010.
Leslie Kux,
Acting Assistant Commissioner for Policy.

[FR Doc. 2010-12615 Filed 5-25-10; 8:45 am]

BILLING CODE 4160-01-S